DEPARTMENT OF ENERGY

Federal Energy Regulatory Commission

[Docket No. QF07-11-000]

EnviroDyne Inc.; Notice of Filing of Notice of Self-Certification of Qualifying Status of a Cogeneration Facility

May 18, 2007.

Take notice that on October 13, 2006, EnviroDyne Inc., 10400 Overland Road #226, Boise, ID 83709 filed with the Federal Energy Regulatory Commission a notice of self-certification of a facility as a qualifying cogeneration facility pursuant to 18 CFR 292.207(a) of the Commission's regulations.

This cogeneration facility will be located at 3349 S. 1800 E., Wendell, Gooding County, Idaho.

Initially the primary energy input will be from Natural Gas fuel with approximately one percent (1%) of the fuel source from Diesel Fuel (pilot fuel for ignition of the natural gas).

It is anticipated that over time, after development of a gasification unit, this plant could be run on the output of a gasification process with animal waste being the input to the energy conversion units. This fuel source would be in addition to operation on Bio-diesel fuel. In the event of lack of this fuel, the units would run on or be supplemented by Natural Gas.

The principle components of the plant will consist of six (6) model 38ETDD81/8 Enviro-Design Engines, each rated at 3030 BHP and each capable of producing 2165 KW power at 4160 volt, 3 phase 60 Hz Alternating Current. In addition to each engine-generator unit, each plant will consist of heat exchangers and radiators as necessary to cool the units and to recover heat from the units in the form of hot water, possible including exhaust waste heat boilers/heat exchangers. Units would also each include lube oil filtration equipment. Switch gear necessary to monitor and control power output would be included, with each unit having a brushless exciter system controlled by a voltage regulation system.

The plant will also be provided with a step up transformer to convert the generator output (at 4160 VAC) to 35 KV power for connection to Idaho Power's nearby transmission line.

It is expected that EnviroDyne will interconnect with and sell electricity to IDAHO POWER.

EnviroDyne Inc. will not receive supplementary power, backup power, maintenance power, and/or interruptible power from any utility. EnviroDyne Inc. will be a self-sustaining power generation facility.

A notice of self-certification does not institute a proceeding regarding qualifying facility status; a notice of self-certification provides notice that the entity making filing has determined the Facility meets the applicable criteria to be a qualifying facility. Any person seeking to challenge such qualifying facility status may do so by filing a motion pursuant to 18 CFR 292.207(d)(iii).

This filing is accessible on-line at http://www.ferc.gov, using the “eLibrary” link and is available for review in the Commission's Public Reference Room in Washington, DC. There is an “eSubscription” link on the Web site that enables subscribers to receive e-mail notification when a document is added to a subscribed docket(s). For assistance with any FERC Online service, please e-mail FERCOnlineSupport@ferc.gov, or call (866) 208-3676 (toll free). For TTY, call (202) 502-8659.

Kimberly D. Bose,
Secretary.

[FR Doc. E7-9972 Filed 5-23-07; 8:45 am]

BILLING CODE 6717-01-P